DEPARTMENT OF AGRICULTURE

Office of the Secretary

7 CFR Part 2

RIN 3209-AA15

Revision of Delegations of Authority

AGENCY: Department of Agriculture.

ACTION: Final rule.

SUMMARY: This document revises certain delegations of authority related to ethics from the Secretary of Agriculture and changes the USDA Designated Agency Ethics Official from the Director, Office of Ethics, to the Deputy Assistant Secretary for Administration, and further designates the Director, Office of Ethics, as the USDA Alternate Agency Ethics Official.

EFFECTIVE DATE: Effective October 28, 2002.

FOR FURTHER INFORMATION CONTACT: Raymond J. Sheehan, Director, Office of Ethics, U.S. Department of Agriculture, Room 348-W—Stop 0122, 1400 Independence Avenue, SW., Washington, DC 20250-0122, telephone (202) 720-2251.

SUPPLEMENTARY INFORMATION:

I. Background

This amendment revises the current language of sections 2.24, 2.87, and 2.95 of part 2 of title 7 of the Code of Federal Regulations, to change the delegation of authority to serve as Designated Agency Ethics Official (DAEO) for the Department of Agriculture (USDA), from the position of Director, Office of Ethics, to the position of Deputy Assistant Secretary for Administration, and to designate the Director, Office of Ethics, as Alternate Agency Ethics Official.

Paragraph (a)(13) of section 2.24 addresses delegations from the Secretary to the Assistant Secretary for Administration relating to ethics. The regulation currently limits the authority of the Assistant Secretary for Administration over the ethics program to that of general supervision with no authority over the functions exercised by the Director, Office of Ethics, pursuant to that officer's delegation of DAEO authority. As amended, all references to the “Director, Office of Ethics” would be deleted and replaced by the “Deputy Assistant Secretary for Administration.”

Section 2.87 relates to delegations of authority from the Assistant Secretary for Administration to the Deputy Assistant Secretary for Administration. There currently exists no reference in this section to any ethics responsibilities. Section 2.95 concerns delegations by the Assistant Secretary for Administration to the Director, Office of Ethics. That section reflects the current designation of the Director, Office of Ethics as DAEO. This amendment would delegate the DAEO function to the Deputy Assistant Secretary for Administration by adding that delegation to section 2.87 and removing the current DAEO delegation from section 2.95. This amendment also would designate the Director, Office of Ethics, as the Alternate Ethics Official.

II. Matters of Regulatory Procedure

Administrative Procedure Act

This rule relates to internal agency management. Therefore, pursuant to 5 U.S.C. 553, notice of proposed rule making and opportunity for comment are not required, and this rule may be made effective less than 30 days after publication in the Federal Register.

Congressional Review

The Department has determined this rulemaking is not a rule as defined in 5 U.S.C. 804, and, thus, does not require review by Congress. This rulemaking applies only to delegations of authority and responsibility to the employees and officers of the Department of Agriculture.

Executive Orders Nos. 12866 and 12988

Since this rule relates to Department personnel, it is exempt from the provisions of Executive Orders Nos. 12866 and 12988.

Regulatory Flexibility Act

In addition, this action is not a rule as defined by Public Law No. 96-354, the Regulatory Flexibility Act, and, thus, is exempt from the provisions of that Act.

Paperwork Reduction Act

The Department has determined that the Paperwork Reduction Act (44 U.S.C. chapter 35) does not apply because this regulation does not contain any information collection requirements that require the approval of the Office of Management and Budget.

Environmental Impact

This decision will not have a significant impact upon the quality of the human environment or the conversation of energy resources.

List of Subjects in 7 CFR Part 2

Authority delegations (Government agencies).

Dated: October 17, 2002.
Ann M. Veneman,
Secretary of Agriculture.

Accordingly, amend part 2, title 7, Code of Federal Regulations as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR, 1949-1953 Comp., p. 1024.

Subpart C—Delegations of Authority to the Deputy Secretary, the Under Secretaries and Assistant Secretaries

2. Paragraph (a)(13) of section 2.24 is revised to read as follows:

§ 2.24 Assistant Secretary for Administration.

a. * * *

* * * * *

(13) Related to ethics. The Ethics function in the U.S. Department of Agriculture is under the authority of the Assistant Secretary for Administration for purposes of general supervision only. The Assistant Secretary does not have any authority over the functions exercised by the Deputy Assistant Secretary for Administration, pursuant to the Deputy Assistant Secretary's responsibilities as Designated Agency Ethics Official under the Office of Government Ethics regulations at 5 CFR part 2638.

* * * * *

Subpart P—Delegations of Authority by the Assistant Secretary for Administration

3. Section 2.87 is revised to read as follows:

§ 2.87 Deputy Assistant Secretary for Administration.

(a) Delegations. Pursuant to the Office of Government Ethics regulations at 5 CFR part 2638. The Deputy Assistant Secretary for Administration shall be the USDA Designated Agency Ethics Official and shall exercise all authority pursuant to the Office of Government Ethics regulations at 5 CFR part 2638.

(b) Pursuant to § 2.24(a), subject, to reservations in § 2.24(b), the following delegation of authority is made by the Assistant Secretary for Administration to the Deputy Assistant Secretary for Administration, to be exercised only during the absence or unavailability of the Assistant Secretary: Perform all the duties and exercise all the powers which are now or which may hereafter be delegated to the Assistant Secretary for Administration.

4. Section 2.95 is revised to read as follows:

§ 2.95 Director, Office of Ethics.

The Director, Office of Ethics, shall be the USDA Alternate Agency Ethics Official, pursuant to 5 CFR 2638.202, and shall exercise the authority reserved to the Designate Agency Ethics Official under 5 CFR part 2638 only in the absence or unavailability of the Designated Agency Ethics Official.

[FR Doc. 02-27184 Filed 10-25-02; 8:45 am]

BILLING CODE 3410-01-M